DEPARTMENT OF HEALTH AND HUMAN SERVICES

Substance Abuse and Mental Health Services Administration (SAMHSA)

Notice of Meetings

Pursuant to Public Law 92-463, notice is hereby given of the following meetings of SAMHSA Special Emphasis Panels I in June, July, August and September 2002.

A summary of the meetings and a roster of the members may be obtained from: Ms. Coral Sweeney, Review Specialist, SAMHSA, Office of Policy and Program Coordination, Division of Extramural Activities, Policy, and Review, 5600 Fishers Lane, Room 17-89, Rockville, Maryland 20857. Telephone: 301-443-2998.

Substantive program information may be obtained from the individual named as Contact for the meeting listed below.

The meetings will include the review, discussion and evaluation of individual grant applications. These discussions could reveal personal information concerning individuals associated with the applications. Accordingly, these meetings are concerned with matters exempt from mandatory disclosure in Title 5 U.S.C. 552b(6) and 5 U.S.C. App.2, § 10(d).

Committee Name: SAMHSA Special Emphasis Panel I (SEP I).

Meeting Date: June 3-7, 2002.

Place: Bethesda Marriott, 5151 Pooks Hill Road, Bethesda, MD 20814.

Closed: June 3, 2002 to Adjournment.

Panel: Childrens Mental Health Initiative, SM 02-00272, Committees.

Contact: Diane McMenamin, Director, Division of Extramural Activities, Policy and Review, Parklawn Building, 5600 Fishers Lane, Room 1789, Rockville, Maryland 20857.

Committee Name: SAMSHA Special Emphasis Panel I (SEP I).

Meeting Date: June 3-7, 2002.

Place: Bethesda Marriott, 5151 Pooks Hill Road, Bethesda, Maryland 20814.

Closed: June 3, 2002 to Adjournment. Panel: Partnerships for Effective Youth Transition, SM 02-00372, Committees.

Contact: Diane McMenamin, Director, Division of Extramural Activities, Policy and Review, Parklawn Building, 5600 Fishers Lane, Room 1789, Rockville, Maryland 20857.

Committee Name: SAMSHA Special Emphasis Panel 1 (SEP I).

Meeting Date: June 10—14, 2002.

Place: Bethesda Marriott, 5151 Pooks Hill Road, Bethesda, Maryland 20814.

Closed: June 10, 2002 to Adjournment.

Panel: CMHS, Community Action Grants, PA 02-001.

Contact: Diane McMenamin, Division of Extramural Activities, Policy and Review, Parklawn Building, 5600 Fishers Lane, Rockville, Maryland 20857.

Committee Name: SAMSHA Special Emphasis Panel 1 (SEP I).

Meeting Date: June 10-14, 2002.

Place: Bethesda Marriott, 5151 Pooks Hill Road, Bethesda, Maryland 20814.

Closed: June 10, 2002 to Adjournment.

Panel: CSAT, Targeted Capacity Expansion TI 02-009 3 Committees.

Contact: Diane McMenamin, Division of Extramural Activities, Policy and Review, Parklawn Building, 5600 Fishers Lane, Rockville, Maryland 20857.

Committee Name: SAMSHA Special Emphasis Panel 1 (SEP I).

Meeting Date: July 15-19, 2002.

Place: Bethesda Marriott, 5151 Pooks Hill Road, Bethesda, Maryland 20814.

Closed: July 15, 2002 to Adjournment.

Panel: State Incentive Grants.

Contact: Diane McMenamin, Division of Extramural Activities, Policy and Review, Parklawn Building, 5600 Fishers Lane, Rockville, Maryland 20857.

Committee Name: SAMSHA Special Emphasis Panel 1 (SEP I).

Meeting Date: July 15, 2002.

Place: Bethesda Marriott, 5151 Pooks Hill Road, Bethesda, Maryland 20814.

Closed: July 15, 2002.

Panel: Consumer Support Technical Assistance Center.

Contact: Diane McMenamin, Division of Extramural Activities, Policy and Review, Parklawn Building, 5600 Fishers Lane, Rockville, Maryland 20857.

Committee Name: SAMSHA Special Emphasis Panel 1 (SEP I).

Meeting Date: July 15-19, 2002.

Place: Bethesda Marriott, 5151 Pooks Hill Road, Bethesda, Maryland 20814.

Closed: July 15, 2002 to Adjournment.

Panel: Youth Violence Technical Assistance Center.

Contact: Diane McMenamin, Division of Extramural Activities, Policy and Review, Parklawn Building, 5600 Fishers Lane, Rockville, Maryland 20857.

Committee Name: SAMSHA Special Emphasis Panel 1 (SEP I).

Meeting Date: July 22-26, 2002.

Place: Bethesda Marriott, 5151 Pooks Hill Road, Bethesda, Maryland 20814.

Closed: July 22, 2002 to Adjournment.

Panel: American Indian/American Native Rural Planning Grants 2 Committees.

Contact: Diane McMenamin, Division of Extramural Activities, Policy and Review, Parklawn Building, 5600 Fishers Lane, Rockville, Maryland 20857.

Committee Name: SAMSHA Special Emphasis Panel 1 (SEP I).

Meeting Date: July 22-26, 2002.

Place: Bethesda Marriott, 5151 Pooks Hill Road, Bethesda, Maryland 20814.

Closed: July 22, 2002 to Adjournment.

Panel: Criminal Justice 3 Committees.

Contact: Diane McMenamin, Division of Extramural Activities, Policy and Review, Parklawn Building, 5600 Fishers Lane, Rockville, Maryland 20857.

Committee Name: SAMSHA Special Emphasis Panel 1 (SEP I)

Meeting Date: July 29-August 2, 2002.

Place: Bethesda Marriott, 5151 Pooks Hill Road Bethesda, Maryland 20814.

Closed: July 29, 2002 to Adjournment.

Panel: Treatment for Homeless 4 Committees.

Contact: Diane McMenamin, Division of Extramural Activities, Policy and Review, Parklawn Building, 5600 Fishers Lane, Rockville, Maryland 20857.

Committee Name: SAMSHA Special Emphasis Panel 1 (SEP I)

Meeting Date: July 29-August 2, 2002. 2 Committees.

Place: Bethesda Marriott, 5151 Pooks Hill Road, Bethesda, Maryland 20814.

Closed: July 29 to Adjournment.

Panel: First Responders/Public Safety Workers.

Contact: Diane McMenamin, Division of Extramural Activities, Policy and Review, Parklawn Building, 5600 Fishers Lane, Rockville, Maryland 20857.

Committee Name: SAMSHA Special Emphasis Panel 1 (SEP I).

Meeting Date: August 5-9, 2002.

Place: Bethesda Marriott, 5151 Pooks Hill Road, Bethesda, Maryland 20814

Closed: August 5, 2002 to Adjournment.

Panel: Adult Juvenile Family Drug Courts 3 Committees.

Contact: Diane McMenamin, Division of Extramural Activities, Policy and Review, Parklawn Building, 5600 Fishers Lane, Rockville, Maryland 20857.

Committee Name: SAMSHA Special Emphasis Panel 1 (SEP I).

Meeting Date: August 5-9, 2002.

Place: Bethesda Marriott, 5151 Pooks Hill Road, Bethesda, Maryland 20814.

Closed: August 5, 2002.

Panel: Elderly Mental Health Outreach & Treatment 3 Committees.

Contact: Diane McMenamin, Division of Extramural Activities, Policy and Review, Parklawn Building, 5600 Fishers Lane, Rockville, MD 20857.

Committee Name: SAMSHA Special Emphasis Panel 1 (SEP I).

Meeting Date: August 12-16, 2002.

Place: Bethesda Marriott, 5151 Pooks Hill Road, Bethesda, MD 20814.

Closed: August 12, 2002 to Adjournment.

Panel: Partnerships for Effective Youth Transitions, 4 Committees.

Contact: Diane McMenamin, Division of Extramural Activities, Policy and Review, Parklawn Building, 5600 Fishers Lane, Rockville, MD 20857.

Committee Name: SAMSHA Special Emphasis Panel 1 (SEP I).

Meeting Date: August 12-16, 2002.

Place: Bethesda Marriott, 5151 Pooks Hill Road, Bethesda, MD 20814.

Closed: August 12, 2002.

Panel: Workforce Training, 3 Committees.

Contact: Diane McMenamin, Division of Extramural Activities, Policy and Review, Parklawn Building, 5600 Fishers Lane, Rockville, MD 20857.

Committee Name: SAMSHA Special Emphasis Panel 1 (SEP I).

Meeting Date: August 19-23, 2002.

Place: Bethesda Marriott, 5151 Pooks Hill Road, Bethesda, MD 20814.

Closed: August 19, 2002 to Adjournment.

Panel: Targeted Capacity Expansion/HIV, 5 Committees.

Contact: Diane McMenamin, Division of Extramural Activities, Policy and Review, Parklawn Building, 5600 Fishers Lane, Rockville, MD 20857.

Committee Name: SAMSHA Special Emphasis Panel 1 (SEP I).

Meeting Date: August 26-30, 2002.

Place: Bethesda Marriott, 5151 Pooks Hill Road, Bethesda, MD 20814.

Closed: August 26, 2002 to Adjournment.

Panel: Youth Violence Prevention, 5 Committees.

Contact: Diane McMenamin, Division of Extramural Activities, Policy and Review, Parklawn Building, 5600 Fishers Lane, Rockville, MD 20857.

Committee Name: SAMSHA Special Emphasis Panel 1 (SEP I).

Meeting Date: August 26-30, 2002.

Place: Bethesda Marriott, 5151 Pooks Hill Road, Bethesda, MD 20814.

Closed: August 26, 2002 to Adjournment.

Panel: Adolescent Residential Treatment, 3 Committees.

Contact: Diane McMenamin, Division of Extramural Activities, Policy and Review, Parklawn Building, 5600 Fishers Lane, Rockville, MD 20857.

Committee Name: SAMSHA Special Emphasis Panel 1 (SEP I).

Meeting Date: September 9-13, 2002.

Place: Bethesda Marriott, 5151 Pooks Hill Road, Bethesda, MD 20814.

Closed: September 9, 2002 to Adjournment.

Panel: Child Trauma/Post Traumatic Stress TA Center.

Contact: Diane McMenamin, Division of Extramural Activities, Policy and Review, Parklawn Building, 5600 Fishers Lane, Rockville, MD 20857.

Committee Name: SAMSHA Special Emphasis Panel 1 (SEP I).

Meeting Date: September 2-9, 2002.

Place: Bethesda Marriott, 5151 Pooks Hill Road, Bethesda, MD 20814.

Closed: September 2, 2002 to Adjournment.

Panel: National Suicide Prevention Resource Center.

Contact: Diane McMenamin, Division of Extramural Activities, Policy and Review, Parklawn Building, 5600 Fishers Lane, Rockville, MD 20857.

Committee Name: SAMSHA Special Emphasis Panel 1 (SEP I).

Meeting Date: September 2-6, 2002.

Place: Bethesda Marriott, 5151 Pooks Hill Road, Bethesda, MD 20814.

Closed: September 2, 2002 to Adjournment.

Panel: MH Violence Coordinating Center.

Contact: Diane McMenamin, Division of Extramural Activities, Policy and Review, Parklawn Building, 5600 Fishers Lane, Rockville, MD 20857.

Committee Name: SAMSHA Special Emphasis Panel 1 (SEP I).

Meeting Date: September 2-6, 2002.

Place: Bethesda Marriott, 5151 Pooks Hill Road, Bethesda, MD 20814.

Closed: September 2, 2002 to Adjournment.

Panel: Anti-Drug Coalitions.

Contact: Diane McMenamin, Division of Extramural Activities, Policy and Review, Parklawn Building, 5600 Fishers Lane, Rockville, MD 20857.

.

Committee Name: SAMSHA Special Emphasis Panel 1 (SEP I).

Meeting Date: September 9-13, 2002.

Place: Bethesda Marriott, 5151 Pooks Hill Road, Bethesda, MD 20814.

Closed: September 9, 2002.

Panel: HIV/AIDS Planning & HIV/AIDS Services, 8 Committees.

Contact: Diane McMenamin, Division of Extramural Activities, Policy and Review, Parklawn Building, 5600 Fishers Lane, Rockville, MD 20857.

Committee Name: SAMSHA Special Emphasis Panel 1 (SEP I).

Meeting Date: September 16-20, 2002.

Place: Bethesda Marriott, 5151 Pooks Hill Road, Bethesda, MD 20814.

Closed: September 16, 2002.

Panel: Methadone/Ecstasy Implementation and Infrastructure, 3 Committees.

Contact: Diane McMenamin, Division of Extramural Activities, Policy and Review, Parklawn Building, 5600 Fishers Lane, Rockville, MD 20857.

Committee Name: SAMSHA Special Emphasis Panel 1 (SEP I).

Meeting Date: September 16-20, 2002.

Place: Bethesda Marriott, 5151 Pooks Hill Road, Bethesda, MD 20814.

Closed: September 16, 2002 to Adjournment.

Panel: State Treatment Needs Assessment Program, 2 Committees.

Contact: Diane McMenamin, Division of Extramural Activities, Policy and Review, Parklawn Building, 5600 Fishers Lane, Rockville, MD 20857.

Dated: May 20, 2002.
Coral Sweeney,
Review Specialist, Division of Extramural Activities and Review, Substance Abuse and Mental Health Services Administration.

[FR Doc. 02-13108 Filed 5-23-02; 8:45 am]

BILLING CODE 4162-20-P